DEPARTMENT OF HOMELAND SECURITY

Coast Guard

33 CFR Part 100

[Docket No. USCG-2014-0839]

Special Local Regulation; Annual Marine Events on the Colorado River Between Davis Dam (Bullhead City, AZ) and Headgate Dam (Parker, AZ) Within the San Diego Captain of the Port Zone

AGENCY: Coast Guard, DHS.

ACTION: Notice of enforcement of regulation.

SUMMARY: The Coast Guard will enforce the annual Blue Water Resort and Casino (BWRC) Parker Enduro marine event and associated waterway restriction special local regulations on October 24-26, 2014. This event occurs in the navigable waters of the Colorado River in Parker, Arizona between river miles 179 and 185 (between the Roadrunner Resort and the Headgate Dam). These special local regulations are necessary to provide for the safety of the participants, crew, spectators, and general users of the waterway. During the enforcement period, persons and vessels are prohibited from entering into, transiting through, or anchoring within this regulated area unless authorized by the Captain of the Port, or his designated representative.

DATES: The regulations for the marine event listed in 33 CFR 100.1102, Table 1, Item 11, will be enforced from 8:00 a.m. to 5:00 p.m. on October 24-26, 2014.

FOR FURTHER INFORMATION CONTACT: If you have questions on this notice, call or email Petty Officer Giacomo Terrizzi, Waterways Management, U.S. Coast Guard Sector San Diego, CA; telephone (619) 278-7656, email D11-PF-MarineEventsSanDiego@uscg.mil.

SUPPLEMENTARY INFORMATION: The Coast Guard will enforce the special local regulations in 33 CFR 100.1102 in support of the annual BWRC Parker Enduro (Item 11 on Table 1 of 33 CFR 100.1102), held in late October. The Coast Guard will enforce the special local regulations on the Colorado River in Parker, AZ on Friday, October 24, 2014 through Sunday, October 26, 2014 from 8 a.m. to 5 p.m.

Under the provisions of 33 CFR 100.1102, persons and vessels are prohibited from entering into, transiting through, or anchoring within this regulated area of the Colorado River unless authorized by the Captain of the Port, or his designated representative. The Coast Guard may be assisted by other Federal, State, or local law enforcement agencies in patrol and notification of this regulation.

This notice is issued under authority of 5 U.S.C. 552 (a) and 33 CFR 100.1102. In addition to this notice in the Federal Register, the Coast Guard will provide the maritime community with advance notification of this enforcement period via the Local Notice to Mariners and local advertising by the event sponsor.

If the Captain of the Port Sector San Diego or his designated representative determines that the regulated area need not be enforced for the full duration stated on this notice, he or she may use a Broadcast Notice to Mariners or other communications coordinated with the event sponsor to grant general permission to enter the regulated area.

Dated: September 15, 2014.
J. S. Spaner,
Captain, U.S. Coast Guard, Captain of the Port San Diego.

[FR Doc. 2014-22975 Filed 9-25-14; 8:45 am]

BILLING CODE 9110-04-P